DEPARTMENT OF JUSTICE

Notice of Filing of Settlement Agreement Under the Comprehensive Environmental Response, Compensation and Liability Act (CERCLA)

Notice is hereby given that on or about April 25, 2011, a proposed Settlement Agreement in In re: Old AII, Inc. (f/k/a Aleris International, Inc.) et al., Case No. 09-10478 (BLS), was lodged pursuant to Fed. R. Bank. Proc. 9019 with the United States Bankruptcy Court for the District of Delaware.

The proposed Settlement Agreement resolves a claim asserted in this Chapter 11 bankruptcy proceeding by the United States on behalf of the United States Environmental Protection Agency (“EPA”) for reimbursement of response costs incurred or to be incurred by EPA at the Halaco Superfund Site, located in Oxnard, California, from Debtor Commonwealth Aluminum Concast, Inc. (“Commonwealth Aluminum”). The United States alleged Commonwealth Aluminum is liable under Section 107(a)(3) of the Comprehensive Environmental Response Compensation and Liability Act, as amended (“CERCLA”), 42 U.S.C. 9607(a)(3), at the Halaco Site as a generator of hazardous wastes disposed of at the Site. Under the Settlement Agreement, the United States' claim will be allowed as an unsecured claim in the amount of $2,672,800.00, to be paid as a Class 5 claim (General Unsecured Claims Other than Convenience Claims and Insured Claims) in accordance with the confirmed First Amended Joint Plan of Reorganization of Aleris International, Inc. and Its Affiliated Debtors, as Modified (the “Plan”).

The proposed Settlement Agreement also resolves the United States' claims for civil penalties and punitive damages under Sections 106 and 107 of CERCLA, 42 U.S.C. 9606 and 9607, for any failure that occurred through the date of lodging of the Settlement Agreement with the Bankruptcy Court by Commonwealth Aluminum (as successor to Barmet Aluminum Corporation), without sufficient cause, to comply with a Unilateral Administrative Order for Remedial Design and Remedial Action at the Brantley Landfill Site, located in Island, McLean County, Kentucky, issued by EPA on March 31, 1995 (the “Brantley UAO”). In return for the resolution of these claims, Aleris Rolled Products, Inc. agrees to undertake on a going forward basis the obligations under the Brantley UAO.

Finally, the Settlement Agreement reflects the resolution of certain claims asserted by the United States, on behalf of EPA, against Debtors Aleris International, Inc. and Wabash Alloys, L.L.C., respectively, under the Clean Air Act, 42 U.S.C. 7401-767, and the Toxic Substances Control Act, 15 U.S.C. 2601-2697, by providing for the withdrawal of the proofs of claim asserting those claims.

The Department of Justice will receive for a period of thirty (30) days from the date of this publication comments relating to the proposed Settlement Agreement. Comments should be addressed to the Assistant Attorney General, Environment and Natural Resources Division, and either e-mailed to pubcomment-ees.enrd@usdoj.gov or mailed to P.O. Box 7611, U.S. Department of Justice, Washington, DC 20044-7611, and should refer to In re: Old AII, Inc. (f/k/a Aleris International, Inc.) et al., Case No. 09-10478 (BLS), D.J. Ref. 90-5-2-1-08603/2.

During the public comment period, the proposed Settlement Agreement may also be examined on the following Department of Justice Web site: http://www.usdoj.gov/enrd/Consent_Decrees.html.

A copy of the proposed Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury or, if by e-mail or fax, forward a check in that amount to the Consent Decree Library at the stated address.

Henry Friedman,
Assistant Chief, Environmental Enforcement Section, Environment and Natural Resources Division.

[FR Doc. 2011-10464 Filed 4-29-11; 8:45 am]

BILLING CODE 4410-15-P